DEPARTMENT OF DEFENSE

Department of the Navy

Notice of Intent To Prepare an Environmental Impact Statement for the Restoration of Airfield Clear Zones and Storm Water Drainage Systems at Naval Air Station (NAS) Key West, FL

AGENCY: Department of the Navy, DOD.

ACTION: Notice.

SUMMARY: Pursuant to Section (102)(2)(c) of the National Environmental Policy Act (NEPA) of 1969, as implemented by the Council on Environmental Quality Regulations (40 CFR parts 1500-1508), the Department of Navy (Navy) announces its intent to prepare an Environmental Impact Statement (EIS) to evaluate the potential environmental consequences of bringing the Boca Chica Field into compliance with Navy and Federal Aviation Administration (FAA) Safety Regulations. Overgrowth of mangroves and other vegetation has negatively affected visibility and poses a strike hazard to aircraft landing and taking off at Boca Chica Field, thereby, adversely impacting airfield operations. Additionally, inadequate surface water drainage on the airfield has been identified as a significant safety hazard. NAS Key West's primary mission is to provide pilot training facilities and services as well as access to superior airspace and training ranges for tactical aviation squadrons. As such, NAS Key West serves as the Navy's premier East Coast pilot training facility for tactical aviation squadrons.

The EIS will evaluate the environmental effects associated with vegetation removal on airspace, safety, earth resources, land use, socioeconomic resources, infrastructure, cultural resources and biological resources; including endangered and sensitive species, specifically the Lower Keys Marsh Rabbit (LKMR) and mangroves. Methods to reduce or minimize impacts to these species and essential fish habitat provided by mangroves in the clear zones will also be addressed. The analysis will include an evaluation of the direct, indirect, and cumulative impacts. No decision will be made to implement any action alternative until the NEPA process is completed.

DATES: A public scoping meeting will be held in Key West, FL, to receive oral and/or written comments on environmental concerns that should be addressed in the EIS. The public meeting will be held on Tuesday, August 24, 2004, from 7 p.m. to 9 p.m.

ADDRESSES: The public meeting will be held at Doubletree Grand Key Resort, 3990 S. Roosevelt Blvd., Key West, FL 33040.

FOR FURTHER INFORMATION CONTACT: Naval Facilities Engineering Command, Southern Division (NAVFAC EFD SOUTH), P.O. Box 190010, North Charleston, SC 29419-9010; Attn: Ms. Olivia Westbrook, telephone (843) 820-5841; facsimile (843) 820-7465; e-mail: Olivia.westbrook@navy.mil. The point of contact at NAS Key is Richard Ruzich. He may be reached by telephone at (305) 293-2785; facsimile (305) 293-2542; or e-mail: Ruzichri@naskw.navy.mil.

SUPPLEMENTARY INFORMATION: Historically, the Boca Chica Field did not have dense vegetation surrounding the area, as is the desired condition for any airfield or airport. However, due to a lack of maintenance and rapid growth rate, excess vegetation has encroached upon the clear zones and now creates serious unsafe conditions on the airfield. In order to bring the airfield back into compliance with Navy and FAA safety regulations, some trees and shrubs within these safety clearance zones will have to be removed. Some portions of this removal process may have potential impacts to federally listed species and their habitat and the filling of wetlands. The primary species of concern is the endangered LKMR. Additional concerns involve wetlands within the project area that include freshwater marsh, saltmarsh, freshwater hardwoods, and mangroves (the predominant species). The Navy has conducted extensive research and surveyed Boca Chica Field in order to identify the non-compliant areas and develop a restoration/construction methodology. During this process the best possible technique(s) for restoring and enhancing the airfield clearance safety areas while minimizing the impacts of the restoration methods to the LKMR and wetlands were delineated.

The EIS will consider three alternatives: (1) Complete compliance with aviation regulations. Under this alternative, maintenance would be completed to allow the airfield to operate under the conditions originally established for the Boca Chica Field. Maintenance activities would include clearing, grading, and grubbing vegetation within airfield safety clearance zones. All trees within the Primary Surface Area, Type I, Type II, portions of Type III, and Transitional areas would be removed, and the area completely cleared of stumps (grubbing) and re-graded. Typical mechanized equipment would be used since the entire area would be disturbed due to grubbing and re-grading activities and there would be no benefit to the use of specialized low-impact equipment. Restoration of the existing drainage system would be implemented by removal of the mangroves in the canals and on the banks and dredging to original invert elevations. (2) The second alternative would include a combination of vegetation management, filling of wetlands, and salt marsh conversion. Restoration of the existing drainage system would be implemented by removal of the mangroves in the canals and dredging to original invert elevations. The proposed action would improve airfield conditions to correct deficiencies temporarily waivered by the Navy, and return conditions to an airfield that complies with FAA and Navy standards with an acceptable level of safety. (3) The No Action Alternative in accordance with Section 1502.14(d) of the NEPA regulations means that an action would not take place and the resulting environmental effects from taking no action would be compared with the effects of allowing the proposed action to move forward. Implementation of the No Action alternative would only allow the performance of minimal airfield maintenance that is eligible for Categorical Exclusion under NEPA requirements. Under this alternative, Boca Chica Field would remain in non-compliance with airfield safety criteria and NAS Key West operations would continue to be negatively impacted by existing conditions.

The Navy is initiating the scoping process to identify community concerns and local issues that should be addressed in the EIS. Federal, State, and local agencies, as well as interested persons are encouraged to provide oral and/or written comments to the Navy to identify specific issues or topics of environmental concern for consideration in the EIS. The Navy will consider these comments in determining the scope of the EIS.

Written comments must be postmarked by September 21, 2004, and should be mailed to: Restoration of Airfield Clear Zones and Storm Water Drainage Systems at NAS Key West, FL EIS, c/o Commander, NAVFAC EFD SOUTH, P.O. Box 190010, North Charleston, SC 29419-9010, Attn: Code ES12/OW (Olivia Westbrook), telephone (843) 820-5841, facsimile (843) 820-7465, or by E-Mail olivia.westbrook@navy.mil.

Dated: August 3, 2004.
S.K. Melancon,
Paralegal Specialist, Office of the Judge Advocate General, Alternate Federal Register Liaison Officer.

[FR Doc. 04-18008 Filed 8-5-04; 8:45 am]

BILLING CODE 3810-FF-P